DEPARTMENT OF COMMERCE

International Trade Administration

[A-533-809]

Certain Stainless Steel Flanges from India; Extension of Time Limit For Final Results of Antidumping Duty Administrative Review

AGENCY: Import Administration, International Trade Administration, Department of Commerce.

SUMMARY: The Department of Commerce (the Department) is extending the time limits for the final results of the administrative review of the antidumping duty order on certain stainless steel flanges from India.

EFFECTIVE DATE: July 1, 2002.

FOR FURTHER INFORMATION CONTACT: Thomas Killiam or Robert James, AD/CVD Enforcement, Office 8, Group III, Import Administration, International Trade Administration, U.S. Department of Commerce, 14th Street and Constitution Avenue, NW, Washington DC 20230; telephone: (202) 482-5222, or (202) 482-0649, respectively.

SUPPLEMENTARY INFORMATION:

Background

On March 7, 2002, the Department published in the Federal Register the preliminary results of administrative review of the antidumping duty order on certain stainless steel flanges from India, covering the period February 1, 2000 through January 31, 2001 (Certain Forged Stainless Steel Flanges From India; Preliminary Results of Antidumping Duty Administrative Review, 67 FR 10358). The final results are currently due no later than July 5, 2002. The respondents are: Isibars, Ltd., Panchmahal Steel Ltd., Patheja Forgings & Auto Parts, Ltd., and Viraj Forgings, Ltd.

Statutory Time Limits

Section 751(a)(3)(A) of the Tariff Act of 1930, as amended (the Tariff Act) requires the Department of Commerce (the Department) to make a final determination within 120 days after the date on which the preliminary determination is published. However, if it is not practicable to complete the review within this time period, section 751(a)(3)(A) of the Tariff Act allows the Department to extend the time limit for the final results to 180 days (or 300 days if the Department does not extend the time limit for the preliminary results) from the date of publication of the preliminary results.

Extension of Final Results Deadline

The Department has determined that because this review involves complex issues, including affiliation allegations in regards to a U.S. customer, disputed duty drawback adjustments, and the correctness of major input pricing on raw materials purchased from affiliated suppliers, it is not practicable to complete the final results of review within the original 120 day time limit mandated by section 751(a)(3)(A) of the Tariff Act and section 351.213(h)(1) of the Department's regulations. Therefore, the Department is extending the time limit for completion of the final results until September 3, 2002, in accordance with 19 CFR 351.213(h)(2).

Dated: June 24, 2002
Joseph A. Spetrini,
Deputy Assistant Secretary For Import Administration, Group III.

[FR Doc. 02-16507 Filed 6-28-02; 8:45 am]

BILLING CODE 3510-DS-S